NATIONAL COMMUNICATIONS SYSTEM

Telecommunications Service Priority System Oversight Committee

AGENCY: National Communications System (NCS).

ACTION: Notice of meeting.

A meeting of the Telecommunications Service Priority (TSP) System Oversight Committee will convene Wednesday, October 30, 2002 from 9 a.m. to 12 p.m. The meeting will be held at 701 South Court House Road, Arlington, VA in the NCS conference room on the 2nd floor.

—TSP/WPS Program Update

—TSP Sponsorship Policies

—OSS Concept

Anyone interested in attending or presenting additional information to the Committee, please contact Deborah Bea, Office of Priority Telecommunications, (703) 607-4933.

Peter M. Fonash,
Certifying Officer, National Communications System.

[FR Doc. 02-26012 Filed 10-10-02; 8:45 am]

BILLING CODE 5001-08-M